DEPARTMENT OF LABOR

Mine Safety and Health Administration

30 CFR Part 57

RIN 1219-AB29

Diesel Particulate Matter Exposure of Underground Metal and Nonmetal Miners

Correction

In rule document 05-10681 beginning on page 32868 in the issue of Monday, June 6, 2005 make the following corrections:

1. On page 32890, in the heading to Table VI-2 “(μ/m³) ” should read “(μg/m³)”.

2. On the same page, in the same table, under the “Metal” heading, in the last entry “522” should read “522.0”

3. On the same page, in the third column, seven lines from the bottom “MSHA s ” should read “MSHA's”.

4. On page 32891, in footnote 2, in the first column, in the third line “TC 1.3” should read “TC≉1.3 ”.

5. On page 32899, in the first column, in the first paragraph, three lines from the bottom “(i.e.,~240TC” should read “(i.e.,≉240TC”.

6. On page 32901, in the table, under the “Description” heading, in the fourth entry, in the second line “350” should read “359”.

7. On the same page, in the same table, under the “Key results” heading, in the fourth entry, in the second paragraph, in the first line “declined” should read “decline”.

8. On the same page, in the same table, under the same heading, in the fifth entry, in the last line “rhintisi” should read “rhinitis”.

9. On page 32902, in the table, under the “Description” heading, in the last entry, in the first line “disease” should read “diesel”.

10. On page 32906, in the first paragraph, seven lines from the bottom ““” should read “—”.

11. On page 32909, in the table, under the “Agent(s) of toxicity” heading, in the fourth entry, in the second paragraph, in the last line “Sigma.” should read “Sigma Chemical Co., respectively.”.

12. On page 32930, in the table, under the “System name” heading, in the fourth entry “On-board” should read “On-board fuel burner”.

13. On the same page, in the same table, under the “Comments” heading, in the final entry, in the first line “yet fuel burner provides ” should read “yet provides ”.

14. On page 32936, in the table, under the “MSHA cost estimate” heading, in the last entry, in the second line “$2.09 million.” should read “$2.09 million:”.

15. On page 32944, in the second column, in the first full paragraph, in the fifth line “(μ/m³) ” should read “(μg/m³)”.

16. On page 32948, in the first column, in the first paragraph, the first two lines should read “have been reduced by a factor equal to √2 if such averaging had been performed. For example, if the analytical”.

17. On page 32949, in the first column, in the first full paragraph, in the tenth line “100x|X1” should read “100×|X1”.

18. On page 32951, in the first column, in the first paragraph, in the third line “(στ = 0.256)” should read “(στ = 0.256)”.

§57.5060 [Corrected]

19. On page 32966, in the second column, in §57.5060(a), in the seventh line “g/m³) ” should read “μg/m³)”.

20. On the same page, in the same column, in §57.5060(b), in the 11th line “160TC μg/m³)”” should read “160TC μg/m³)”.

§57.5075 [Corrected]

21. On page 32968, in the third column, the section heading should read “§57.5075—Diesel particulate records.”.

22. On the same page, in §57.5075(a), the table heading should read “Table 57.5075(a).—Diesel Particulate Recordkeeping Requirements ”.

[FR Doc. C5-10681 Filed 6-29-05; 8:45 am]

BILLING CODE 1505-01-D